DEPARTMENT OF ENERGY

Federal Energy Regulatory Commission

[Docket No. RP04-354-000]

Texas Gas Transmission, LLC; Notice of Tariff Filing

July 8, 2004.

Take notice that on June 30, 2004, Texas Gas Transmission, LLC (Texas Gas) tendered for filing as part of its FERC Gas Tariff, Second Revised Volume No. 1, the tariff sheets listed on Appendix A to the filing, to become effective August 1, 2004.

Texas Gas states that the purpose of this filing is to act in accordance with the terms and conditions of the Order Approving Settlement (the Order) issued on April 29, 1998 (Docket No. RP97-149-003, et al., 83 FERC ¶ 61,093), wherein the Commission ruled that funding for the Gas Research Institute (GRI) be phased down to a voluntary program by year-end, 2004.

Texas Gas states that it has been notified by letter from the GRI that it projects that the actual collections under the funding surcharges approved by the Commission will reach the approved amounts provided for in the Order by August 1, 2004; therefore, Texas Gas herein seeks to remove the GRI surcharge from its rates, effective on that date, and to amend its tariff by deleting specific references to the GRI surcharge from its General Terms and Conditions (GT&C).

Texas Gas states that copies of this filing are being mailed to all parties on Texas Gas's official list, to Texas Gas's jurisdictional customers, and to interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1540 Filed 7-13-04; 8:45 am]

BILLING CODE 6717-01-P